NUCLEAR REGULATORY COMMISSION

NORTHERN STATES POWER COMPANY

[Docket Numbers 50-282 and 50-306; NRC-2009-0507]

Prairie Island Nuclear Generating Plant, Units 1 and 2; Notice of Availability of the Final Supplement 39 to the Generic Environmental Impact Statement for License Renewal of Nuclear Plants Regarding the License Renewal of Prairie Island Nuclear Generating Plants, Units 1 and 2

Notice is hereby given that the U.S. Nuclear Regulatory Commission (NRC) has published a final plant-specific supplement to the Generic Environmental Impact Statement for License Renewal of Nuclear Plants (GEIS), NUREG-1437, regarding the renewal of Operating Licenses DPR-42 and DPR-60 for an additional 20 years of operation for Prairie Island Nuclear Generating Plant, Units 1 and Unit 2 (PINGP 1 and 2). The PINGP 1 and 2 site is located near Red Wing, Minnesota, on the west bank of the Mississippi River in Goodhue County. Possible alternatives to the proposed action (license renewal) include the no action alternative and other reasonable alternative energy sources.

As discussed in Section 9.4 of the final supplement, the staff determined that the adverse environmental impacts of license renewal for PINGP 1 and 2 are not so great that preserving the option of license renewal for energy-planning decision makers would be unreasonable.

This recommendation is based on: (1) The analysis and findings in the GEIS; (2) information provided in the environmental report and other documents submitted by Northern States Power Company; (3) consultation with Federal, State, local, and Tribal agencies; (4) the staff's own independent review; and (5) consideration of public comments received during the scoping process and on the draft Supplemental Environmental Impact Statement.

The final Supplement 39 to the GEIS is publicly available at the NRC Public Document Room (PDR), located at One White Flint North, Public File Area O-1F21, 11555 Rockville Pike, Rockville, Maryland 20852, or from the NRC's Agencywide Documents Access and Management System (ADAMS). The ADAMS Public Electronic Reading Room is accessible at http://www.nrc.gov/reading-rm/adams.html. The accession number for the final Supplement 39 to the GEIS is ML11133A029. Persons who do not have access to ADAMS or who encounter problems while accessing the documents located in ADAMS, should contact the NRC's PDR reference staff by telephone at (800) 397-4209 or (301) 415-4737, or by e-mail at pdr.resource@nrc.gov. In addition, the Red Wing Public Library, 225 East Avenue, Red Wing, Minnesota 55066, has agreed to make the final supplement available for public inspection.

For Further Information, Contact: Ms. Elaine Keegan, Projects Branch 2, Division of License Renewal, Office of Nuclear Reactor Regulation, U.S. Nuclear Regulatory Commission, Mail Stop O-11F1, Washington, DC 20555-0001. Ms. Keegan may be contacted by telephone at (800) 368-5642, extension 8517, or by e-mail at Elaine.Keegan@nrc.gov

Dated at Rockville, Maryland, this 13th day of May, 2011.
For the Nuclear Regulatory Commission.
David J. Wrona,
Chief, Projects Branch 2, Division of License Renewal, Office of Nuclear Reactor Regulation.

[FR Doc. 2011-12447 Filed 5-19-11; 8:45 am]

BILLING CODE 7590-01-P